DEPARTMENT OF COMMERCE

National Telecommunications and Information Administration

First Responder Network Authority

First Responder Network Authority Board and Finance Committee Special Meeting

AGENCY: First Responder Network Authority (FirstNet), U.S. Department of Commerce.

ACTION: Notice of public meeting of the First Responder Network Authority Board.

SUMMARY: The Board of the First Responder Network Authority (Board) and the Board Finance Committee will hold a Special Meeting via telephone conference (teleconference) on August 26, 2016.

DATES: The Special Meeting of the Board and the Board Finance Committee of the First Responder Network Authority will be held on August 26, 2016 from 9:00 a.m. to 10:00 a.m. EDT.

ADDRESSES: The Special Meeting will be conducted via teleconference. Members of the public may listen to the meeting by dialing toll free 1-800-369-1808 and using passcode 7322336.

FOR FURTHER INFORMATION CONTACT: Karen Miller-Kuwana, Board Secretary, FirstNet, 12201 Sunrise Valley Drive, M/S 243, Reston, VA 20192; telephone: (571) 665-6177; email: Karen.Miller-Kuwana@firstnet.gov. Please direct media inquiries to Ryan Oremland at (571) 665-6186.

SUPPLEMENTARY INFORMATION: Background: The Middle Class Tax Relief and Job Creation Act of 2012 (Pub. L. 112-96, Title VI, 126 Stat. 256 (codified at 47 U.S.C. 1401 et seq.)) (Act) established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters to be Considered: FirstNet will post a detailed agenda for the Special Meeting on its Web site, http://www.firstnet.gov, prior to the meeting. The agenda topics are subject to change. Please note that the subjects that will be discussed by the Board Finance Committee and the Board may involve commercial or financial information that is privileged or confidential or other legal matters affecting FirstNet. As such, the Committee Chair and Board Chair may call for a vote to close the meetings only for the time necessary to preserve the confidentiality of such information, pursuant to 47 U.S.C. 1424(e)(2).

Time and Date of Meeting: The Special Meeting of the Board and the Board Finance Committee of the First Responder Network Authority will be held on August 26, 2016 from 9:00 a.m. to 10:00 a.m. EDT. The time and date are subject to change. Please refer to FirstNet's Web site at www.firstnet.gov for the most up-to-date information.

Place: The Special Meeting will be conducted via teleconference. Members of the public may listen to the meeting by dialing toll free 1-800-369-1808 and using passcode 7322336.

Other Information: These teleconference for the Special Meeting is open to the public. On the date and time of the Special Meeting, members of the public may call toll free 1-800-369-1808 and use passcode 7322336 to listen to the meeting. If you experience technical difficulty, please contact the Conferencing Center customer service at 1-866-900-1011. Public access will be limited to listen-only. Due to the limited number of ports, attendance via teleconference will be on a first-come, first-served basis. The Special Meeting is accessible to people with disabilities. Individuals requiring accommodations are asked to notify Ms. Miller-Kuwana by telephone (571) 665-6177 or email at Karen.Miller-Kuwana@firstnet.gov at least five (5) business days before the applicable meeting.

Records: FirstNet maintains records of all Board proceedings. Minutes of the Board Meeting and the Committee meetings will be available at www.firstnet.gov.

Dated: August 18, 2016.
Karen Miller-Kuwana,
Board Secretary, First Responder Network Authority.

[FR Doc. 2016-20123 Filed 8-22-16; 8:45 am]

BILLING CODE 3510-TL-P